DEPARTMENT OF TRANSPORTATION

National Highway Traffic Safety Administration

[U.S. DOT Docket Number NHTSA-2003-15324]

Reports, Forms, and Record Keeping Requirements

AGENCY: National Highway Traffic Safety Administration (NHTSA), Department of Transportation (DOT).

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed information collections, including extensions and reinstatements of previously approved collections. This document describes one collection of information for which NHTSA intends to seek OMB approval.

DATES: Comments must be received on or before August 11, 2003.

ADDRESSES: Comments must refer to the docket notice numbers cited at the beginning of this notice and be submitted to Docket Management, Room PL-401, 400 Seventh Street, SW., Washington, DC 20590. Please identify the proposed collection of information for which a comment is provided, by referencing its OMB clearance number. It is requested, but not required that 2 copies of the comment be provided. The Docket Section is open on weekdays from 10 a.m. to 5 p.m.

FOR FURTHER INFORMATION CONTACT: Marvin M. Levy, Ph.D., NHTSA 400 Seventh Street, SW., Room 6240, NTI-131, Washington, DC 20590. Dr. Levy's telephone number is (202) 366-5597.

SUPPLEMENTARY INFORMATION: Under the Paperwork Reduction Act of 1995, before an agency submits a proposed collection of information to OMB for approval, it must first publish a document in the Federal Register providing for a 60-day comment period and otherwise consult members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methods and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In response to these requirements, NHTSA asks for public comment on the following proposed collection of information:

Title: National Survey of Drinking and Driving Attitudes and Behavior

OMB Clearance Number: None.

Affected Public: Under this proposed collection, a telephone interview would be administered to each of 6,000 randomly selected members of the general public age 16 and older. The respondent sample would be selected from all 50 states plus the District of Columbia. Interviews would be conducted with persons at residential phone numbers selected using random digit dialing. No more than one respondent per household would be selected, and each sample member would complete just one interview. Businesses are ineligible for the sample and would be not be interviewed.

Form Number: This collection of information uses no standard forms.

Abstract: The National Highway Traffic Safety Administration's (NHTSA) has a central role in the national effort to reduce motor-vehicle related traffic injuries and deaths. After years of steady decline, the number of alcohol-related fatalities in the U.S. reversed direction and rose to 17,448 in 2001. The agency's goal is to reduce the rate of alcohol-related crashes from 0.63 to 0.53 crashes per 100 million vehicle miles traveled by the end of 2003.

In order to plan and evaluate programs intended to reduce alcohol-impaired driving, NHTSA needs to periodically update its knowledge and understanding of the public's attitudes and behaviors with respect to drinking and driving. NHTSA began measuring the driving age public's attitudes and behaviors regarding drinking and driving in 1991. The proposed study, to be administered in the 3rd quarter of 2003, and the seventh in this series of biennial surveys, will collect data on topics included in the first six studies. These topics include the frequency of drinking and driving; ways to prevent driving after drinking; respondents' perceptions of enforcement of drinking and driving laws, including the use of sobriety checkpoints; and crash and injury experience.

The survey will be administered by telephone to a national probability sample of the driving-age public (aged 16 years or older as of their last birthday). The interview is anticipated to average approximately 20 minutes: For non-drinkers and non-drivers the interview will average below 20 minutes; while for drinker-drivers, it will average slightly over 20 minutes. Interviewers will use a computer assisted telephone interviewing technique (CATI) for reducing survey administration time and to minimize data collection errors. A Spanish-language questionnaire and bi-lingual interviewers will be used to reduce language barriers to participation. Participation by respondents will be voluntary and all respondents' results will remain anonymous and completely confidential. Participant names are not collected during the interview and the telephone number used to reach the respondent is separated from the data record prior to its entry into the analytical database.

The findings from this proposed collection will assist NHTSA in addressing the problem of alcohol-impaired driving, and in formulating programs and recommendations to Congress. NHTSA will use the findings to help focus future programs and activities to achieve improved efficiencies and outcomes. This may involve modifying existing or developing new programs that can decrease the likelihood of drinking and driving behaviors, and to provide informational support to states, localities, and law enforcement agencies in their efforts to reduce impaired driving related traffic crashes and injuries. The requested expiration date of approval is December 31, 2005.

Estimate of the Total Annual Burden Resulting from the Collection of Information: NHTSA estimates that respondents in the sample would require an average of 20 minutes to complete the telephone interview. Thus, estimated reporting burden on the general public would be a total of 2000 hours per year for the proposed study. The respondents would not incur any reporting or record keeping cost from the information collection.

Number of Respondents: It is anticipated that the number of respondents will be 6,000 persons age 16 or older living in the United States.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Marilena Amoni,
Associate Administrator for Program Development and Delivery, National Highway Traffic Safety Administration.

[FR Doc. 03-14889 Filed 6-11-03; 8:45 am]

BILLING CODE 4910-59-U